NATIONAL CREDIT UNION ADMINISTRATION

Sunshine Act Meeting; Notice of Agency Meeting

TIME AND DATE: 10:00 a.m., Thursday, December 15, 2016.

PLACE: Board Room, 7th Floor, Room 7047, 1775 Duke Street (All visitors must use Diagonal Road Entrance), Alexandria, VA 22314-3428.

STATUS: Open.

MATTERS TO BE CONSIDERED: 1. Corporate Stabilization Fund Quarterly Report.

2. NCUA's Rules and Regulations, Federal Credit Union Occupancy, Planning, and Disposal of Acquired and Abandoned Premises.

3. NCUA's Rules and Regulations, Freedom of Information Act.

4. Revised Texas Member Business Loan Rule.

5. Board Briefing, NGN Legacy Asset Disposition Strategy.

RECESS: 11:30 a.m.

TIME AND DATE: 11:45 a.m., Thursday, December 15, 2016.

PLACE: Board Room, 7th Floor, Room 7047, 1775 Duke Street, Alexandria, VA 22314-3428.

STATUS: Closed.

MATTERS TO BE CONSIDERED: 1. Creditor Claim Appeal. Closed pursuant to Exemption (6).

2. Request for Approval under Section 205(d). Closed pursuant to Exemption (6).

FOR FURTHER INFORMATION CONTACT: Gerard Poliquin, Secretary of the Board, Telephone: 703-518-6304.

Gerard Poliquin,
Secretary of the Board.

[FR Doc. 2016-29884 Filed 12-8-16; 4:15 pm]

BILLING CODE 7535-01-P